DEPARTMENT OF DEFENSE

Office of the Secretary of Defense

Renewal of the Department of Defense Historical Advisory Committee

AGENCY: Department of Defense.

ACTION: Notice.

SUMMARY: The Department of Defense Historical Advisory Committee was renewed, effective January 23, 2006, in consonance with the public interest, and in accordance with the provisions of the “Federal Advisory Committee Act.”

The Committee shall provide the Secretary of Defense and the Secretaries of the Military Departments independent advice and recommendations on matters regarding the professional standards, historical methodology, program priorities, liaison with professional groups and institutions, and adequacy of resources of the various historical programs and associated activities of the Department of Defense.

The DoD Historical Advisory Committee will continue to be well balanced in terms of the interest groups represented and functions to be performed. The members include distinguished representatives from academia, current U.S. Government and private sector historians, authors and librarians, and retired general officers of general/flag rank.

FOR FURTHER INFORMATION CONTACT: Contact Dr. Stuart Rochester, Deputy Historian, OSD Historical Office, 703-588-7876.

Dated: February 6, 2006.
L.M. Bynum,
Alternate OSD Federal Register Liaison Officer, Department of Defense.

[FR Doc. 06-1233 Filed 2-9-06; 8:45 am]

BILLING CODE 5001-06-M